DEPARTMENT OF COMMERCE

International Trade Administration

[A-475-822]

Notice of Extension of the Time Limit for Preliminary Results of Antidumping Duty Administrative Review: Stainless Steel Plate in Coils From Italy

AGENCY: Import Administration, International Trade Administration, Department of Commerce.

EFFECTIVE DATE: December 3, 2001.

FOR FURTHER INFORMATION CONTACT: Carrie Blozy or Stephen Shin, AD/CVD Enforcement Group III, Office 9, Import Administration, International Trade Administration, U.S. Department of Commerce, 14th Street and Constitution Avenue, NW., Washington, DC 20230; telephone: (202) 482-0165 or (202) 482-0413.

SUPPLEMENTARY INFORMATION:

The Applicable Statute

Unless otherwise indicated, all citations to the Tariff Act of 1930, as amended (the Act) are to the provisions effective January 1, 1995, the effective date of the amendments made to the Act by the Uruguay Round Agreements Act. In addition, unless otherwise indicated, all citations to the Department of Commerce's (“the Department”) regulations are to the current regulations as codified at 19 CFR part 351 (2001).

Background

On May 31, 2001, Accai Speciali Terni S.p.A. and its affiliated company, requested that the Department conduct an administrative review. On June 19, 2001, the Department published a notice of initiation of the administrative review of the antidumping duty order on Stainless Steel Plate in Coils from Italy, covering the period May 1, 2000 through April 30, 2001. See Initiation of Antidumping and Countervailing Duty Administrative Review and Requests for Revocation in Part, 66 FR 32934 (June 19, 2001). The preliminary results of this review are currently due no later than January 31, 2002.

Extension of Time Limit for Preliminary Results

Pursuant to section 751(a)(3)(A) of the Act, the Department may extend the deadline for completion of the preliminary results of a review if it determines that it is not practicable to complete the preliminary results within the statutory time limit of 245 days from the date on which the review was initiated. On October 22, 2001, the Department initiated a sales-below-the-cost-of-production investigation with respect to home market sales made by AST. On November 23, 2001, AST submitted the company-specific cost data. In order to properly analyze and consider the cost data in the Department's preliminary results, the Department has determined that it is not practicable to complete the preliminary results of this review for Accai Speciali Terni S.p.A. and its affiliates within the initial time limits provided in section 751(a)(3)(A) of the Act and section 351.213(h) of the Department's regulations.

Therefore, we are extending the due date for the preliminary results by 60 days, until no later than April 2, 2002. The final results continue to be due 120 days after the publication of the preliminary results.

Dated: November 26, 2001.
Barbara E. Tillman,
Acting Deputy Assistant Secretary, for Import Administration, Group III.

[FR Doc. 01-29892 Filed 11-30-01; 8:45 am]

BILLING CODE 3510-DS-P